DEPARTMENT OF COMMERCE

International Trade Administration

[A-801-002]

Mattresses From Serbia: Final Results of Antidumping Duty Administrative Review; 2022-2023

AGENCY: Enforcement and Compliance, International Trade Administration, Department of Commerce.

SUMMARY: The U.S. Department of Commerce (Commerce) determines that Healthcare Europe DOO Ruma (Healthcare), the sole producer/exporter subject to this administrative review, made sales of subject merchandise at below normal value during the period of review (POR) May 1, 2022, through April 30, 2023.

DATES: Applicable October 9, 2024.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On May 31, 2024, Commerce published the Preliminary Results in this administrative review in the Federal Register.¹ We provided interested parties with an opportunity to comment on the Preliminary Results; no interested party submitted comments. Because no party commented on the Preliminary Results, we made no changes to the preliminary findings therein; thus, no decision memorandum accompanies this Federal Register notice.

¹ See Mattresses from Serbia: Preliminary Results of the Antidumping Duty Administrative Review; 2022-2023, 89 FR 47129 (May 31, 2024) (Preliminary Results), and accompanying Preliminary Decision Memorandum (PDM).

Scope of the Order ²

² See Mattresses from Cambodia, Indonesia, Malaysia, Serbia, Thailand, the Republic of Turkey, and the Socialist Republic of Vietnam: Antidumping Duty Orders and Amended Final Affirmative Antidumping Determination for Cambodia, 86 FR 26460 (May 14, 2021) (Order).

The products covered by the Order are mattresses from Serbia. For a complete description of the scope of the Order, see the Preliminary Results.³

³ See Preliminary Results PDM at 2-3.

Final Results of Review

For these final results, we determine that the following estimated weighted-average dumping margin exists for the period of review of May 1, 2022, through April 30, 2023:

Producer/exporter | Weighted- average dumping margin (percent)
Healthcare europe DOO Ruma | 42.09

Disclosure

Normally, Commerce discloses to parties to the proceeding the calculations performed in connection with the final results of review within five days of any public announcement or, if there is no public announcement, within five days of the date of publication of the notice of the final results in the Federal Register, in accordance with 19 CFR 351.224(b). However, because we made no changes from the Preliminary Results, there are no calculations to disclose.

Assessment Rates

Pursuant to section 751(a)(2)(C) of the Act, and 19 CFR 351.212(b)(1), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of these final results for all shipments of the subject merchandise entered, or withdrawn from warehouse, for consumption on or after the publication date, as provided by section 751(a)(2) of the Act: (1) the cash deposit rate Healthcare will be equal to the company-specific weighted-average dumping margin established in the final results of the review; (2) for merchandise exported by producers or exporters not covered in this review but covered in a prior segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other producers or exporters will continue to be 112.11 percent, the all-others rate established in the less-than-fair-value investigation.⁴ These cash deposit requirements, when imposed, shall remain in effect until further notice.

⁴ See Mattresses from Serbia: Final Affirmative Determination of Sales at Less than Fair Value, and Final Negative Finding of Critical Circumstances, 86 FR 15892 (March 25, 2021).

Notification to Importers Regarding the Reimbursement of Duties

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is issued and published in accordance with sections 751(a)(1) and 777(i)(1) of the Act, and 19 CFR 351.221.

Dated: October 3, 2024.
Ryan Majerus,
Deputy Assistant Secretary for Policy and Negotiations, performing the non-exclusive functions and duties of the Assistant Secretary for Enforcement and Compliance.

[FR Doc. 2024-23331 Filed 10-8-24; 8:45 am]

BILLING CODE 3510-DS-P